DEPARTMENT OF ENERGY

Federal Energy Regulatory Commission

[Project No. 2206-092]

Duke Energy Progress, LLC; Notice of Application Accepted for Filing and Soliciting Comments, Motions To Intervene, and Protests

Take notice that the following hydroelectric application has been filed with the Commission and is available for public inspection.

a. Type of Application: Temporary variance of lake level elevation.

b. Project No.: 2206-092.

c. Date Filed: May 12, 2020 and supplemented September 3, 2020.

d. Applicant: Duke Energy Progress, LLC.

e. Name of Project: Yadkin-Pee Dee Hydroelectric Project.

f. Location: The project is located on the Yadkin-Pee Dee River in Anson, Montgomery, Richmond, and Stanly counties, North Carolina.

g. Filed Pursuant to: Federal Power Act, 16 U.S.C. 791(a)-825(r).

h. Applicant Contact: Ms. Tami Styer, 526 South Church Street/EC12Y, Charlotte, NC 28202, (704) 382-0293.

i. FERC Contact: Korede Olagbegi, (202) 502-6268, Korede.Olagbegi@ferc.gov.

j. Deadline for filing comments, motions to intervene, and protests is 15 days from the issuance of this notice. The Commission strongly encourages electronic filing. Please file comments, motions to intervene, and protests using the Commission's eFiling system at http://www.ferc.gov/docs-filing/efiling.asp. Commenters can submit brief comments up to 6,000 characters, without prior registration, using the eComment system at http://www.ferc.gov/doc-sfiling/ecomment.asp. You must include your name and contact information at the end of your comments. For assistance, please contact FERC Online Support at FERCOnlineSupport@ferc.gov, (866) 208-3676 (toll free), or (202) 502-8659 (TTY). In lieu of electronic filing, you may send a paper copy. Submissions sent via the U.S. Postal Service must be addressed to: Kimberly D. Bose, Secretary, Federal Energy Regulatory Commission, 888 First Street NE, Room 1A, Washington, DC 20426. Submissions sent via any other carrier must be addressed to: Kimberly D. Bose, Secretary, Federal Energy Regulatory Commission, 12225 Wilkins Avenue, Rockville, Maryland 20852. The first page of any filing should include docket number P-2206-092. Comments emailed to Commission staff are not considered part of the Commission record.

The Commission's Rules of Practice require all intervenors filing documents with the Commission to serve a copy of that document on each person on the official service list for the project. Further, if an intervenor files comments or documents with the Commission relating to the merits of an issue that may affect the responsibilities of a particular resource agency, they must also serve a copy of the document on that resource agency.

k. Description of Request: The applicant requests a temporary variance to maintain the water elevation at the Blewett Falls Lake below the current license limits in order to allow for spillway modifications to take place at the Blewett Falls Dam. The current license generally allows the water level to fluctuate up to 6 feet below full pond, between an elevation of 172.1 and 178.1 feet National Geodetic Vertical Datum of 1929 (NGVD 29). When the flashboards on the spillway need to be replaced, an additional drawdown of 2 feet, to an elevation of 170.1 feet NGVD 29 is allowed. To complete the work on the spillway, the applicant is proposing to lower the Blewett Falls lake level up to an additional 1 foot below this maximum allowance, or 9 feet below full pond, to an elevation of 168.1 feet NGVD 29. The applicant proposes to maintain this lowered water elevation for a period beginning in October 2020 and lasting for 24 months, and states that maintaining the elevation at this level is needed to provide its contractor safe access to the spillway crest for the duration of the work associated with the spillway. During this time, the applicant states that the boat ramp at the Pee Dee Access area will remain usable, but the boat ramp at the Grassy Island Access area will be closed.

l. Locations of the Applications: The Commission provides all interested persons an opportunity to view and/or print the contents of this document via the internet through the Commission's website at http://www.ferc.gov/docs-filing/elibrary.asp. Enter the docket number excluding the last three digits in the docket number field to access the document. You may also register online at http://www.ferc.gov/docs-filing/esubscription.asp to be notified via email of new filings and issuances related to this or other pending projects. Agencies may obtain copies of the application directly from the applicant. At this time, the Commission has suspended access to the Commission's Public Reference Room due to the proclamation declaring a National Emergency concerning the Novel Coronavirus Disease (COVID-19), issued by the President on March 13, 2020. For assistance, contact FERC at FERCOnlineSupport@ferc.gov or call toll free, (866) 208-3676 or TTY, (202) 502-8659.

m. Individuals desiring to be included on the Commission's mailing list should so indicate by writing to the Secretary of the Commission.

n. Comments, Motions To Intervene, or Protests: Anyone may submit comments, a motion to intervene, or a protest in accordance with the requirements of Rules of Practice and Procedure, 18 CFR 385.210, .211, .214. In determining the appropriate action to take, the Commission will consider all protests or other comments filed, but only those who file a motion to intervene in accordance with the Commission's Rules may become a party to the proceeding. Any comments, motions to intervene, or protests must be received on or before the specified comment date for the particular application.

o. Filing and Service of Responsive Documents: Any filing must (1) bear in all capital letters the title “COMMENTS”, “MOTION TO INTERVENE”, or “PROTEST” as applicable; (2) set forth in the heading the name of the applicant and the project number of the application to which the filing responds; (3) furnish the name, address, and telephone number of the person protesting or intervening; and (4) otherwise comply with the requirements of 18 CFR 385.2001 through 385.2005. All comments, motions to intervene, or protests must set forth their evidentiary basis. A copy of all other filings in reference to this application must be accompanied by proof of service on all persons listed in the service list prepared by the Commission in this proceeding, in accordance with 18 CFR 385.2010.

Dated: September 17, 2020.
Kimberly D. Bose,
Secretary.

[FR Doc. 2020-20988 Filed 9-22-20; 8:45 am]

BILLING CODE 6717-01-P